NATIONAL AERONAUTICS AND SPACE ADMINISTRATION

Agency Report Forms Under OMB Review

AGENCY: National Aeronautics and Space Administration (NASA).

[Notice 00-135]

ACTION: Notice of Agency Report Forms Under OMB Review.

SUMMARY: The National Aeronautics and Space Administration, as part of its continuing effort to reduce paperwork and respondent burden, invites the general public and other Federal agencies to take this opportunity to comment on proposed and/or continuing information collections, as required by the Paperwork Reduction Act of 1995 (Public Law 104-13; 44 U.S.C. 3506(c)(2)(A)). This information is used to determine whether the requested license should be granted.

DATES: Written comments and recommendations on the proposal for the collection of information should be received within 60 days of this notice.

ADDRESSES: All comments should be addressed to Mr. Brian Dunbar, Code PM, National Aeronautics and Space Administration, Washington, DC 20546. All comments will become a matter of public record and will be summarized in NASA's request for OMB approval.

FOR FURTHER INFORMATION CONTACT: Ms. Carmela Simonson, Office of the Chief Information Officer, (202) 358-1223.

Reports

Title: Voluntary Response Survey of NASA Internet Customers

OMB Number: 2700-.

Type of review: New.

Need and Uses: NASA is seeking input from Internet users that they will use to redesign the NASA Home Page, the NASA-wide Search Engine and other Internet offerings so that the NASA Web is more customer-focused and provides users with the information they are seeking more quickly.

Affected Public: Individuals or households.

Number of Respondents: 100.

Responses Per Respondent: 4.

Annual Responses: 400.

Hours Per Request: 15 min.

Annual Burden Hours: 100.

Frequency of Report: quarterly.

Dr. David B. Nelson,
Deputy Chief Information Officer, Office of the Administrator.

[FR Doc. 00-28955 Filed 11-9-00; 8:45 am]

BILLING CODE 7510-01-P